FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 31, 2001.

A. Federal Reserve Bank of Atlanta (Cynthia C. Goodwin, Vice President) 104 Marietta Street, N.W., Atlanta, Georgia 30303-2713:

1. Murphy O’Banion, Leesville, Louisiana; to acquire additional voting shares of Vernon Bancshares, Inc., Leesville, Louisiana, and thereby indirectly acquire additional voting shares of The Vernon Bank, Leesville, Louisiana.

B. Federal Reserve Bank of Chicago (Phillip Jackson, Applications Officer) 230 South LaSalle Street, Chicago, Illinois 60690-1414:

1. William Robert Phelps, Fairmont, Minnesota; to retain voting shares of Swea City Bancorporation, Inc., Estherville, Iowa; and thereby indirectly retain voting shares of Bank Plus, Estherville, Iowa.

Board of Governors of the Federal Reserve System, May 11, 2001.
Robert deV. Frierson
Associate Secretary of the Board.

[FR Doc. 01-12377 Filed 5-15-01; 8:45 am]

BILLING CODE 6210-01-S